DEPARTMENT OF COMMERCE

National Oceanic and Atmospheric Administration

RIN 0648-XE901

International Fisheries; Pacific Tuna Fisheries; Well Volume in the Regional Vessel Register of the Inter-American Tropical Tuna Commission

AGENCY: National Marine Fisheries Service (NMFS), National Oceanic and Atmospheric Administration (NOAA), Commerce.

ACTION: Notice to the U.S. purse seine fleet fishing for tuna and tuna-like species in the Eastern Pacific Ocean.

SUMMARY: The intent of this notice is to inform the U.S. purse seine fleet fishing for tuna or tuna-like species in the Eastern Pacific Ocean (EPO) about Inter-American Tropical Tuna Commission (IATTC) Resolution C-15-02 (Resolution on the Deadline Applicable to Revisions of Well Volume in Paragraph 6 of Resolution C-02-03).

DATES: IATTC Resolution C-15-02 will become effective January 1, 2017.

FOR FURTHER INFORMATION CONTACT: Chris Fanning, West Coast Region, NMFS, at Chris.Fanning@noaa.gov, or at (562) 980-4198.

SUPPLEMENTARY INFORMATION:

Background on the IATTC

The United States is a member of the IATTC, which was established under the 1949 Convention for the Establishment of an Inter-American Tropical Tuna Commission. In 2003, the IATTC adopted the Convention for the Strengthening of the IATTC Established by the 1949 Convention between the United States of America and the Republic of Costa Rica (Antigua Convention), which entered into force in 2010. The United States acceded to the Antigua Convention on February 24, 2016. The full text of the Antigua Convention is available at: https://www.iattc.org/PDFFiles2/Antigua_Convention_Jun_2003.pdf.

The IATTC consists of 21 member nations and four cooperating non-member nations and facilitates scientific research into, as well as the conservation and management of, highly migratory species of fish in the IATTC Convention Area. The IATTC Convention Area is defined as the waters of the EPO within the area bounded by the west coast of the Americas and by 50° N. latitude, 150° W. longitude, and 50° S. latitude. The IATTC has maintained a scientific research and fishery monitoring program for many years, which includes a Regional Vessel Register (Register) to maintain a record of vessels that are authorized to fish for tuna and tuna-like species in the Convention Area.

International Obligations of the United States Under the Convention

As a member of the IATTC, the United States is legally bound to implement decisions of the IATTC. The Tuna Conventions Act (16 U.S.C. 951-962) provides that the Secretary of Commerce, in consultation with the Secretary of State and, with respect to enforcement measures, the Secretary of the Department of Homeland Security, may promulgate such regulations as may be necessary to carry out the United States' international obligations under the Convention, including recommendations and decisions adopted by the IATTC. The Secretary's authority to promulgate such regulations has been delegated to NMFS.

IATTC Resolution C-15-02

Resolution C-02-03 was agreed to at the 69th meeting of the IATTC in Manzanillo, Mexico in 2002. Among other things, the Resolution stated that, “the well volume of each purse-seine vessel, once confirmed. . ., shall be reflected in the Register.” This Resolution was implemented domestically through regulations at 50 CFR 300.22(b). At the 89th meeting of the IATTC in Guayaquil, Ecuador in 2015, Resolution C-02-03 was amended to Resolution C-15-02. This Resolution required that a deadline be set for all purse seine well volumes (identified as “Fish Hold Volume (m³)” in the Register) to be confirmed. Resolution C-15-02 states that on January 1, 2017, all purse seine well volumes in the Register will be considered confirmed, and the well volume of any new purse seine vessel added to the Register after that date will be considered confirmed at the time they are added to the Register.

Impact on the U.S. Purse Seine Fleet

For purse seine vessels currently listed on the Register, the well volume listed in the Register on January 1, 2017, will be considered confirmed, even if documentation (e.g., blueprints, marine survey) verifying well volume has never been submitted. Additionally, if a new purse seine vessel is added to the Register, the well volume submitted at the time it is added will be considered confirmed whether or not it is accompanied by documentation.

If the owner of a vessel currently listed on the Register would like to submit documentation to verify the vessel's well volume and update it before January 1, 2017, please submit any such documentation no later than December 15, 2016 (See FOR FURTHER INFORMATION CONTACT).

Authority: 16 U.S.C. 951 et seq.

Dated: October 18, 2016.
Emily H. Menashes,
Acting Director, Office of Sustainable Fisheries, National Marine Fisheries Service.

[FR Doc. 2016-25540 Filed 10-20-16; 8:45 am]

BILLING CODE 3510-22-P